DEPARTMENT OF ENERGY

Federal Energy Regulatory Commission

[Docket No. RP04-139-000]

Virginia Natural Gas, Inc., Complainant v. Columbia Gas Transmission Corporation, Respondent; Notice of Complaint

January 14, 2004.

Take notice that on January 13, 2004, Virginia Natural Gas, Inc. (VNG) pursuant to rule 206 of the rules of practice and procedure of the Federal Energy Regulatory Commission (Commission), 18 CFR 385.206 (2003), filed a Complaint against Columbia Gas Transmission Corporation (Columbia). VNG alleges that Columbia violated Sections 4, 5, and 7(b) of the Natural Gas Act, 15 U.S.C. 717c, 717d, and 717f(b), and the Commission's regulations applicable to open-access transportation of natural gas, 18 CFR 284, Columbia's Tariff, and Columbia's service agreements with VNG when Columbia:

• Reduced by 75 percent, for a period beginning February 20, 2003, and extending through the end of the 2002-2003 heating season, Liquefaction Demand under Columbia's Rate Schedule X-133, providing for natural gas liquefaction, storage, vaporization and delivery service to VNG, for reasons of claimed “force majeure” when, in fact, the reason was the innate inability of Columbia's facilities to perform consistently with the requirements of Columbia's certificate;

• With respect to deliveries to VNG's Southern System, failed on five separate occasions during the 2002-03 heating season, to meet Minimum Daily Pressure Obligations set out, pursuant to Columbia's Tariff, in Columbia's service agreements with VNG under Columbia's Rate Schedules FTS and SST; and

• Curtailed, severely if not entirely, VNG's storage withdrawals under Columbia's Rate Schedule FSS providing for firm storage service when Columbia's inability to perform is traceable to Columbia's own operating practices, including, during the critical period, offering service under its PAL Rate Schedule providing for interruptible parking and lending service.

VNG states that Columbia's violations harmed VNG by requiring VNG to take extraordinary and costly measures to continue to serve the customers, including high priority customers, that depend upon VNG's Southern System and requiring VNG to forego numerous asset value maximization opportunities.

By way of remedy, VNG requests the Commission to order Columbia, pursuant to section 16 of the NGA, 15 U.S.C. 717o, to make a monetary payment to VNG to prevent Columbia's unjust enrichment and to place VNG in the position VNG would have occupied absent Columbia's violations. Additionally, VNG also requests the Commission to require Columbia to take all necessary actions, including the construction or repair of facilities without additional cost to VNG or Columbia's other shippers, to ensure that Columbia has the requisite facilities in place to meet Columbia's firm obligations to VNG each and every day. VNG also requests the Commission to grant VNG any other relief the Commission believes is appropriate under the circumstances. Lastly, VNG requests, pursuant to 18 CFR 1b.8(a), that the Commission issue, pursuant to 18 CFR 1b.5, an Order of Investigation setting a formal, public investigation into whether Columbia unlawfully subordinated firm storage service to interruptible service.

Any person desiring to be heard or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. The answer to the complaint and all comments, interventions or protests must be filed on or before the comment date. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll-free at (866) 208-3676, or for TTY, contact (202) 502-8659. The answer to the complaint, comments, protests and interventions may be filed electronically via the Internet in lieu of paper; see 18 CFR 385.2001(a)(1)(iii) and the instructions on the Commission's Web site under the “e-Filing” link. The Commission strongly encourages electronic filings.

Comment Date: January 29, 2004.

Magalie R. Salas,
Secretary.

[FR Doc. E4-101 Filed 01-23-04; 8:45 am]

BILLING CODE 6717-01-P